DEPARTMENT OF HEALTH AND HUMAN SERVICES

Centers for Disease Control and Prevention

[60Day-21-21AN; Docket No. CDC-2020-0115]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Examining Safety and Health Among Aviation Industry Workers in Alaska: A Survey.” The goals of this survey are to collect information on injuries and illness; identify the perceived safety and health needs and concerns; develop safety guidance; and assist in generating hypotheses for future research on health and safety topics among Alaska aviation industry workers.

DATES: CDC must receive written comments on or before February 16, 2021.

ADDRESSES: You may submit comments, identified by Docket No. CDC-2021-0115 by any of the following methods:

• Federal eRulemaking Portal: Regulations.gov. Follow the instructions for submitting comments.

• Mail: Jeffrey M. Zirger, Information Collection Review Office, Centers for Disease Control and Prevention, 1600 Clifton Road, NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Examining Safety and Health Among Aviation Industry Workers in Alaska: A Survey—New—National Institute for Occupational Safety and Health (NIOSH), Centers for Disease Control and Prevention (CDC).

Background and Brief Description

The mission of the National Institute for Occupational Safety and Health (NIOSH) is to promote safety and health at work for all people through research and prevention. The Occupational Safety and Health Act, 91 (section 20[a] [1]), authorizes NIOSH to conduct research to advance the health and safety of workers.

The Alaska Department of Labor and Workforce Development received over 320,000 reports of occupational injury or illness which cost more than $3 billion in workers' compensation benefits from 2000-2013. Maintenance technicians and ramp/baggage/cargo/dock agents made up the largest number of claims from the aviation industry. Among these workers, the most frequently observed injury event was overexertion/bodily reaction, which most often led to sprains, strains, and tears.

NIOSH is proposing to update findings from a NIOSH-funded survey conducted in Alaska during 2001-2002 on attitudes and practices of pilots and aviation operators. This project is part of a larger National Occupational Research Agenda project “Improving Safety in the Commercial Aviation Industry in Alaska” which includes a survey of aviation workers in Alaska using workers' compensation claims data to guide the selection of employee groups to target for survey participation.

The goals of this study are (1) To better understand work practices and the work environment where injuries occur in the aviation industry, (2) To identify and quantify the characteristics, attitudes, practices, and observations of workers to determine potential risk factors, and (3) To provide a snapshot of workers' perceived safety and health needs and concerns. The results of the study will be used to develop denominators for each occupation; identify statistically significant correlations between attitudes, behaviors, company policies, and accident rates; guide the development of prioritized evidence-based interventions and safety solutions for these workers and potentially other workers with similar tasks and in similar environments; and generate hypotheses for future research on health and safety topics in the aviation industry.

NIOSH has contracted with the University of Alaska Anchorage's Institute of Social and Economic Research (ISER) to develop and conduct the surveys. ISER conducted the previous survey of Alaska operators and pilots in 2001 and 2002 and has extensive experience in survey research in Alaska. The statewide survey questionnaire will be administered to air taxi and commuter airline operators (including the subset of single-pilot operators), commercial pilots, ramp/baggage/cargo/dock agents, customer service agents, and maintenance technicians.

The questionnaire for operators requests the number of employed pilots, ramp/baggage/cargo/dock agents, customer service agents, and maintenance technicians. This second element in the sample design will allow for the determination of the number of employees in each occupational group needed to complete the survey. The operator questionnaire requests the number of employees in the four occupational groups—pilots, mechanics, customer service agents, and ramp/baggage/cargo/dock agents, and their names and contact information.

The burden table lists the estimated population size of 306 operators; 820 commercial pilots; 1,400 maintenance technicians; 1,100 ramp/baggage/cargo/dock agents; and 1,600 customer service agents based on data from the Alaska Department of Labor and Workforce Development (2016). The total burden for all surveys, is estimated to be 1,547 hours. CDC is requesting a one-year approval. There are no costs to respondents other than their time.

Estimated Annualized Burden Hours
Type of respondents | Form name | Number of respondents | Number of responses per respondent | Average burden per response (in hours) | Total burden (in hours)
Operators | Operator_Survey | 306 | 1 | 25/60 | 128
Pilots | Pilot_Survey | 820 | 1 | 25/60 | 342
Maintenance technicians | Maintenance Technician_Survey | 1400 | 1 | 15/60 | 350
Ramp/baggage/cargo/dock agents | RBCD_Survey | 1100 | 1 | 15/60 | 275
Customer Service Agents | CSA_Survey | 1600 | 1 | 15/60 | 400
All non-respondents | Non-respondent Questionnaire | 1045 | 1 | 3/50 | 52
Total |  |  |  |  | 1,547

Jeffrey M. Zirger,
Lead, Information Collection Review Office, Office of Scientific Integrity, Office of Science, Centers for Disease Control and Prevention.

[FR Doc. 2020-27818 Filed 12-17-20; 8:45 am]

BILLING CODE 4163-18-P